FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 10, 2014.

A. Federal Reserve Bank of Richmond (Adam M. Drimer, Assistant Vice President) 701 East Byrd Street, Richmond, Virginia 23261-4528:

1. Kenneth R. Lehman, Arlington, Virginia; to acquire voting shares of Village Bank & Trust Financial Corp., and thereby indirectly acquire voting shares of Village Bank, both in Midlothian, Virginia.

B. Federal Reserve Bank of Atlanta (Chapelle Davis, Assistant Vice President) 1000 Peachtree Street NE., Atlanta, Georgia 30309:

1. Stock Holdings of Delaware, LLC, Fort Walton Beach, Florida, acting individually, and in concert with a control group, which consists of Stock Holdings of Delaware, LLC; Joan A. Schweizer, Fort Walton Beach, Florida; Karnise D. Schweizer, Fort Walton Beach, Florida, in her capacities as sole member and manager of Stock Holdings of Delaware, LLC, executrix of the estate of Arthur F. Schweizer, and trustee under the Last Will and Testament of Arthur F. Schweizer; Jarrod L. Schweizer, Boston, Massachusetts; Jason L. Schweizer, Fort Walton Beach, Florida; W. Todd Schweizer, Fort Walton Beach, Florida, individually and in his capacity as the sole member and manager of Schweizer Brothers Investments L.L.C., Fort Walton Beach, Florida; and Schweizer Brothers Investments L.L.C.; to acquire voting shares of Beach Community Bancshares, Inc., and thereby indirectly acquire voting shares of Beach Community Bank, both in Fort Walton Beach, Florida.

C. Federal Reserve Bank of Dallas (E. Ann Worthy, Vice President) 2200 North Pearl Street, Dallas, Texas 75201-2272:

1. Michael Thomas Cope; Julio Cesar Ramon, Sr.; Beatrice Cortez Ramon, all of Mason, Texas; and Kenneth Charles Burow, Comfort, Texas; collectively as a group acting in concert, to acquire voting shares of Commercial Company, Inc., and thereby indirectly acquire voting shares of Commercial Bank, both in Mason, Texas.

Board of Governors of the Federal Reserve System, October 21, 2014.
Michael J. Lewandowski,
Associate Secretary of the Board.

[FR Doc. 2014-25333 Filed 10-23-14; 8:45 am]

BILLING CODE 6210-01-P